DEPARTMENT OF HOMELAND SECURITY

Federal Emergency Management Agency

44 CFR Part 67

[Docket ID FEMA-2008-0020]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Orange County, California, and Incorporated Areas
Docket No.: FEMA-B-1004
Aliso Creek | At confluence with Pacific Ocean | +14 | City of Laguna Beach, Unincorporated Areas of Orange County.
| Approximately 1.09 mile upstream of confluence with Pacific Ocean | +41
Bluebird Canyon | At confluence with Pacific Ocean | +17 | City of Laguna Beach.
| Approximately 0.55 mile upstream of confluence with Pacific Ocean | +124
Canyon Acres Wash | Approximately 70 feet upstream of confluence with Laguna Canyon | +81 | City of Laguna Beach.
| Approximately 1,460 feet upstream of Lewellyn Drive | +185
Laguna Canyon | At confluence with Pacific Ocean | +15 | City of Laguna Beach, Unincorporated Areas of Orange County.
| Approximately 0.72 mile upstream of upstream-most State Highway 73 crossing | +344
* National Geodetic Vertical Datum.
+ North American Vertical Datum.
# Depth in feet above ground.
ADDRESSES
City of Laguna Beach
Maps are available for inspection at City Hall, 505 Forest Avenue, Laguna Beach, CA 92651.
Unincorporated Areas of Orange County
Maps are available for inspection at the Orange County Public Works Department, 300 North Flower Street, Santa Ana, CA 92703.
Anderson County, Kentucky, and Incorporated Areas
Docket No.: FEMA-B-1007
Kentucky River | Anderson County and Franklin County corporate limits | +509 | Unincorporated Areas of Anderson County.
| Anderson County and Mercer County corporate limits | +527
* National Geodetic Vertical Datum.
+ North American Vertical Datum.
# Depth in feet above ground.
ADDRESSES
Unincorporated Areas of Anderson County
Maps are available for inspection at 139 Main Street, Lawrenceburg, KY 40342.
Graves County, Kentucky, and Incorporated Areas
Docket No.: FEMA-1013
Camp Creek | Approximately 2,000 feet upstream KY-348 | +352 | Unincorporated Areas of Graves County.
| Approximately 800 feet upstream of railroad | +370
Kess Creek | At Paris Road | +456 | Unincorporated Areas of Graves County, City of Mayfield.
| Approximately 750 downstream of South 10th Street | +470
Obion Creek | Approximately 2,100 feet downstream of railroad (West County Boundary) | +378 | Unincorporated Areas of Graves County.
| At US-45 | +410
* National Geodetic Vertical Datum.
+ North American Vertical Datum.
# Depth in feet above ground.
ADDRESSES
City of Mayfield
Maps are available for inspection at 211 East Broadway, Mayfield, KY 42066.
Unincorporated Areas of Graves County
Maps are available for inspection at 101 East South Street, Mayfield, KY 42066.
Van Buren County, Michigan, and Incorporated Areas
Docket No.: FEMA-1002
Maple Creek | Approximately 0.4 mile upstream of Ollie Hosier Drive | +645 | Township of Bangor.
| Approximately 800 feet downstream of 34th Avenue | +648
South Branch Black River | Approximately 900 feet upstream of Kal-Haven Trail | +585 | City of South Haven.
| Downstream side of 71½ Street | +585
* National Geodetic Vertical Datum.
+ North American Vertical Datum.
# Depth in feet above ground.
ADDRESSES
City of South Haven
Maps are available for inspection at 539 Phoenix Street, South Haven, MI 49090.
Township of Bangor
Maps are available for inspection at 32550 CR 687, Bangor, MI 49013.
Watauga County, North Carolina, and Incorporated Areas
Docket Nos.: FEMA-B-1004 and FEMA-D-7808
Beech Creek | At the confluence with Watauga River | +2,446 | Unincorporated Areas of Watauga County.
| Approximately 1,080 feet upstream of the confluence of Buckeye Creek | +2,776
Boone Creek | At the confluence with Winkler Creek | +3,122 | Town of Boone.
| Approximately 350 feet upstream of West King Street | +3,311
Brushy Fork | Approximately 100 feet downstream of US 421 Highway N | +2,724 | Unincorporated Areas of Watauga County.
| Approximately 700 feet upstream of Adams Cemetery Road (State Road 1375) | +2,893
Buckeye Creek | At the confluence with Beech Creek | +2,731 | Unincorporated Areas of Watauga County.
| Approximately 0.7 mile upstream of Blevins Road | +2,940
Cobb Creek | At the confluence with Meat Camp Creek | +3,169 | Unincorporated Areas of Watauga County.
| Approximately 1,540 feet upstream of Cobbs Creek Road (State Road 1325) | +3,307
Cove Creek | At the confluence with Watauga River | +2,637 | Unincorporated Areas of Watauga County.
| Approximately 620 feet upstream of Hill Road | +3,083
Elk Creek | Approximately 100 feet downstream of the Watauga/Wilkes County boundary | +1,349 | Unincorporated Areas of Watauga County.
| Approximately 1.1 miles upstream of Jakes Mountain Road | +2,135
Elk Creek (into South Fork River) | Approximately 50 feet upstream of Big Hill Road (State Road 1350) | +2,955 | Unincorporated Areas of Watauga County.
| Approximately 250 feet upstream of State Road 194 | +2,982
Flannery Fork | At the confluence with Winkler Creek | +3,253 | Unincorporated Areas of Watauga County, Town of Boone.
| Approximately 430 feet upstream of Sky Ranch Road | +3,469
Gap Creek | At the Watauga/Ashe County boundary | +2,952 | Unincorporated Areas of Watauga County.
| Approximately 160 feet upstream of James Parsons Road | +3,076
Hodges Creek | Approximately 430 feet upstream of the confluence with Boone Creek | +3,127 | Town of Boone.
| Approximately 140 feet upstream of NC 105 Highway | +3,286
Howard Creek | Approximately 1,440 feet upstream of Moss Hill Road | +3,212 | Unincorporated Areas of Watauga County.
| Approximately 0.6 mile upstream of Millers Pond Lane | +3,418
Laurel Fork | At the confluence with Watauga River | +2,739 | Unincorporated Areas of Watauga County, Town of Boone.
| Approximately 1,400 feet upstream of George Wilson Road | +3,357
Left Prong Stony Fork | At the Watauga/Wilkes County boundary | +1,639 | Unincorporated Areas of Watauga County.
| Approximately 220 feet upstream of the confluence of Wildcat Creek | +1,947
Meat Camp Creek | At the confluence with South Fork New River | +3,058 | Unincorporated Areas of Watauga County.
| Approximately 1.1 miles upstream of Bryan Hollow Road (State Road 1339) | +3,495
Meat Camp Creek Tributary | At the confluence with Meat Camp Creek | +3,156 | Unincorporated Areas of Watauga County.
| Approximately 1,160 feet upstream of NC 194 Highway North | +3,213
Middle Fork | Approximately 500 feet downstream of Shoppes On The Parkway Road | +3,455 | Unincorporated Areas of Watauga County, Town of Blowing Rock.
| Approximately 0.4 mile upstream of Goforth Road | +3,630
Norris Fork | At the confluence with Meat Camp Creek | +3,200 | Unincorporated Areas of Watauga County.
| Approximately 0.4 mile upstream of the confluence with Meat Camp Creek | +3,248
Pine Orchard Creek | At the confluence with Elk Creek (into South Fork New River) | +2,974 | Unincorporated Areas of Watauga County.
| Approximately 0.7 mile upstream of the confluence with Elk Creek (into South Fork New River) | +3,041
Stony Fork | At the Watauga/Wilkes County boundary | +1,975 | Unincorporated Areas of Watauga County.
| Approximately 40 feet downstream of Stoney Fork Road (State Road 1505) | +2,265
Stony Fork Tributary | At the confluence with Stony Fork | +2,260 | Unincorporated Areas of Watauga County.
| Approximately 1,470 feet upstream of Stoney Fork Road | +2,341
Unnamed Tributary to Middle Fork | At the confluence with Middle Fork | +3,477 | Unincorporated Areas of Watauga County, Town of Blowing Rock.
| Approximately 0.7 mile upstream of Chetola Lake Drive | +3,546
Watauga River | At the Watauga County boundary | +2,142 | Unincorporated Areas of Watauga County.
| Approximately 30 feet upstream of The Glens Boulevard | +3,596
Wildcat Creek | At the confluence with Left Prong Stony Fork | +1,941 | Unincorporated Areas of Watauga County.
| Approximately 0.6 mile upstream of Bill Miller Lane | +2,469
Winkler Creek | At the upstream side of Blowing Rock Road | +3,114 | Unincorporated Areas of Watauga County, Town of Boone.
| Approximately 300 feet upstream of Rainbow Mountain Road | +3,442
* National Geodetic Vertical Datum.
+ North American Vertical Datum.
# Depth in feet above ground.
ADDRESSES
Town of Blowing Rock
Maps are available for inspection at the Town Hall, 1036 Main Street, Blowing Rock, NC 28605.
Town of Boone
Maps are available for inspection at the Boone Town Planning and Inspections Office, 1500 Blowing Rock Road, Boone, NC 28607.
Unincorporated Areas of Watauga County
Maps are available for inspection at the Watauga County Planning and Inspections Department, 331 Queen Street, Suite 8, Boone, NC 28607
Barron County, Wisconsin, and Incorporated Areas
Docket No.: FEMA-B-1014
Bear Creek | 191 feet downstream of Main Street (Haugen) | +1,198 | Village of Haugen, Unincorporated Areas of Barron County.
| Just downstream of Bear Lake Dam | +1,207
Beaver Dam Lake | Entire shoreline | +1,233 | City of Cumberland.
Big Moon Lake | Entire shoreline | +1,171 | Unincorporated Areas of Barron County.
Buck Lake | Entire shoreline | +1,233 | City of Cumberland, Unincorporated Areas of Barron County.
Devils Lake | Entire shoreline | +1,262 | Unincorporated Areas of Barron County.
Duck Lake | Entire shoreline | +1,236 | City of Cumberland, Unincorporated Areas of Barron County.
Frankenburg Slough | Entire shoreline | +1,040 | Village of Cameron.
Granite Lake | Entire shoreline | +1,238 | Unincorporated Areas of Barron County.
Lake Montanis | Entire shoreline | +1,119 | City of Rice Lake, Unincorporated Areas of Barron County.
Little Sand Lake | Entire shoreline | +1,250 | Unincorporated Areas of Barron County.
Lower Turtle Lake | Entire shoreline | +1,165 | Unincorporated Areas of Barron County.
Lower/Upper Vermillion Lake | Entire shoreline | +1,184 | Unincorporated Areas of Barron County.
Peterson Lake | Entire shoreline | +1,189 | Unincorporated Areas of Barron County.
Poskin Lake | Entire shoreline | +1,157 | Unincorporated Areas of Barron County.
Red Cedar River | 6,000 feet downstream of State Hwy 48 | +1,126 | Unincorporated Areas of Barron County.
| Outlet of Red Cedar Lake | +1,177
Red Cedar River Tributary 16 | Confluence with Red Cedar River | +1,112 | City of Rice Lake, Unincorporated Areas of Barron County.
| 750 feet upstream of US Hwy 53 | +1,191
Sand Lake | Entire shoreline | +1,226 | Unincorporated Areas of Barron County.
Shallow Lake | Entire shoreline | +1,240 | Unincorporated Areas of Barron County.
Silver Lake | Entire shoreline | +1,258 | Unincorporated Areas of Barron County.
Tuscobia Lake/Stump Lake | Entire shoreline | +1,129 | Unincorporated Areas of Barron County.
Upper Turtle Lake | Entire shoreline | +1,174 | Unincorporated Areas of Barron County.
* National Geodetic Vertical Datum.
+ North American Vertical Datum.
# Depth in feet above ground.
ADDRESSES
City of Cumberland
Maps are available for inspection at 1356 2nd Avenue Cumberland, WI 54829.
City of Rice Lake
Maps are available for inspection at 30 East Eau Claire Street, Rice Lake, WI 54868.
Unincorporated Areas of Barron County
Maps are available for inspection at 330 East LaSalle Avenue, Barron, WI 54812.
Village of Cameron
Maps are available for inspection at 300 North 1st Street, Cameron, WI 54822.
Village of Haugen
Maps are available for inspection at 104 West 3rd Street, Haugen, WI 54841.

(Catalog of Federal Domestic Assistance No. 97.022, “Flood Insurance.”)

Deborah S. Ingram,
Acting Deputy Assistant Administrator for Mitigation, Mitigation Directorate, Department of Homeland Security, Federal Emergency Management Agency.

[FR Doc. E9-27112 Filed 11-9-09; 8:45 am]

BILLING CODE 9110-12-P